FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The Federal Trade Commission and the Assistant Attorney General for the Antitrust Division of the Department of Justice made the grants. Neither agency intends to take any action with respect to these proposed acquisitions during the applicable waiting period.

Early Terminations Granted
[12/01/2020 12:00:00 a.m.,12/31/2020 12:00:00 a.m.]
12/01/2020
20210306 | G | Ellis Aggregator LP; PEX Holdings, LLC; Ellis Aggregator LP.
20210309 | G | Twin River Worldwide Holdings, Inc.; Caesars Entertainment, Inc.; Twin River Worldwide Holdings, Inc.
20210311 | G | Serge Saxonov; 10X GENOMICS, INC.; Serge Saxonov.
20210312 | G | NewCo; Nielsen Holdings plc; NewCo.
20210320 | G | Centene Corporation; Apixio Inc.; Centene Corporation.
20210322 | G | RCAF VII AIV I, L.P.; Renovus Capital Partners II, L.P.; RCAF VII AIV I, L.P.
20210323 | G | New Mountain Partners VI Direct Aggregator, L.P.; Public Pension Capital, LLC; New Mountain Partners VI Direct Aggregator, L.P.
20210324 | G | Mars, Incorporated; Daniel Lubetzky; Mars, Incorporated.
20210325 | G | Kimball International, Inc.; Poppin, Inc.; Kimball International, Inc.
20210327 | G | Telus Corporation; H.I.G. Middle Market LBO Fund II, L. P.; Telus Corporation.
20210332 | G | Palo Alto Networks, Inc.; Expanse Holding Company, Inc.; Palo Alto Networks, Inc.
20210334 | G | Sony Corporation; God's Not Dead Foundation; Sony Corporation.
12/02/2020
20210025 | G | Francisco Partners V, L.P.; Morris & Dickson Holding Co., L.L.C.; Francisco Partners V, L.P.
20210308 | G | TreeHouse Foods, Inc.; Ebro Foods, S.A.; TreeHouse Foods, Inc.
20210335 | G | Addus HomeCare Corporation; Stonehenge Opportunity Fund IV, LP; Addus HomeCare Corporation.
20210338 | G | ACCO Brands Corporation; Jay Deutsch; ACCO Brands Corporation.
20210339 | G | ACCO Brands Corporation; Eric Bensussen; ACCO Brands Corporation.
20210343 | G | Truist Financial Corporation; Fidelis Group Holdings LLC; Truist Financial Corporation.
20210344 | G | Wells Fargo & Company; RMF Holding Partners, L.P.; Wells Fargo & Company.
20210345 | G | Kelso X Restore Co-Investment, L.P.; Lindsay Goldberg IV L.P.; Kelso X Restore Co-Investment, L.P.
20210346 | G | Michael W. Rice; Insignia Truco Holdings, LLC; Michael W. Rice.
20210347 | G | Quad-C Partners IX, L.P.; LDEF II LLC; Quad-C Partners IX, L.P.
20210352 | G | TD Greystone Infrastructure Fund (Canada) L.P. I; Silicon Ranch Corporation; TD Greystone Infrastructure Fund (Canada) L.P. I
20210358 | G | SN Holdings, LLC; Specialty Networks, LLC; SN Holdings, LLC.
20210359 | G | TPG Partners VIII, L.P.; Planview Parent, Inc.; TPG Partners VIII, L. P.
20210365 | G | InterPrivate Acquisition Corp.; Aeva, Inc.; InterPrivate Acquisition Corp.
20210367 | G | Riverstone Global Energy and Power Fund VI, L.P.; Macquarie Infrastructure Corporation; Riverstone Global Energy and Power Fund VI, L.P.
12/03/2020
20210368 | G | William G. Davis; Gary M. Matern; William G. Davis.
20210369 | G | William G. Davis; Joseph D. O'Brien, Jr.; William G. Davis.
20210374 | G | Woof Holdings, L.P.; Berwind Holding Corp.; Woof Holdings, L.P.
20210376 | G | Chinh E. Chu; E2open Holdings, LLC; Chinh E. Chu.
20210377 | G | Koch Industries Inc.; E2open Holdings, LLC; Koch Industries Inc.
20210382 | G | Summit Partners Growth Equity Fund IX-B, L.P.; Andrew Bialecki; Summit Partners Growth Equity Fund IX-B, L.P.
20210383 | G | HP Jin; Telenav, Inc.; HP Jin.
20210385 | G | Luo Fei; VMG Taxable II, L.P.; Luo Fei.
20210386 | G | Stonepeak Infrastructure Fund IV (AIV II) L.P; Radiate Holdings, L.P.; Stonepeak Infrastructure Fund IV (AIV II) L.P.
20210390 | G | TGP Investors II, LLC; Callaway Golf Company; TGP Investors II, LLC.
20210391 | G | TGP Investors, LLC; Callaway Golf Company; TGP Investors, LLC.
20210392 | G | Providence Equity Partners VII USRPHC L.P.; Callaway Golf Company; Providence Equity Partners VII USRPHC L.P.
20210393 | G | Thomas G. Dundon; Callaway Golf Company; Thomas G. Dundon.
20210394 | G | Sun Capital Partners VII, L.P.; Gauge Fund LP; Sun Capital Partners VII, L.P.
12/04/2020
20210395 | G | Summit Partners Growth Equity Fund IX-A, L.P.; Andrew Bialecki; Summit Partners Growth Equity Fund IX-A, L.P.
20210396 | G | Fortune Brands Home & Security, Inc.; Larson SD Holdings, Inc.; Fortune Brands Home & Security, Inc.
20210397 | G | Hellman & Friedman Capital Partners VIII, L.P.; Multiplan Corporation; Hellman & Friedman Capital Partners VIII, L.P.
20210399 | G | JFL Equity Investors V, L.P.; PGPC ENTACT LLC; JFL Equity Investors V, L.P.
20210400 | G | Amsterdam Commodities N.V.; Sunopta Inc.; Amsterdam Commodities N.V.
20210407 | G | New Mountain Partners VI, L.P.; Tinuiti Holdings, LP; New Mountain Partners VI, L.P.
20210411 | G | GTCR Fund XIII/B LP; JSSI Holdings, LLC; GTCR Fund XIII/B LP.
20210412 | G | Park River Holdings, L.P.; Platinum Equity Capital Partners III, L.P.; Park River Holdings, L.P.
20210417 | G | Jaws Acquisition Corp.; ITC Rumba, LLC; Jaws Acquisition Corp.
20210418 | G | Carlyle Partners VII, L.P.; Ritch and Emily Viola; Carlyle Partners VII, L.P.
20210420 | G | Mountain Crest Acquisition Corp.; RT-ICON Holdings LLC; Mountain Crest Acquisition Corp.
20210422 | G | Mars, Incorporated; Marson Family 2012 Grantor Trust FBO Dave Marson; Mars, Incorporated.
20210426 | G | Bain Capital Fund XII, L.P.; Kelso Hammer Co-Investment, L.P.; Bain Capital Fund XII, L.P.
20210436 | G | V.F. Corporation; Carlyle Partners VI, L.P.; V.F. Corporation.
12/07/2020
20200943 | G | Searchlight Capital III AIV, L.P.; Univision Holdings, Inc.; Searchlight Capital III AIV, L.P.
20210413 | G | Gryphon Partners VI, L.P.; Silver Oak Services Partners II, L.P.; Gryphon Partners VI, L.P.
20210414 | G | Kyocera Corporation; Soraa Laser Diode, Inc.; Kyocera Corporation.
20210439 | G | Arrowhead Holdco Company; TriLink Global LLC; Arrowhead Holdco Company.
20210367 | G | Riverstone Global Energy and Power Fund VI, L.P.; Macquarie Infrastructure Corporation; Riverstone Global Energy and Power Fund VI, L.P.
20210440 | G | WealthTech Holding, LLC; InvestCloud, Inc.; WealthTech Holding, LLC.
20210441 | G | WealthTech Holding, LLC; MCF Cypress Acquisition, LP; WealthTech Holding, LLC.
20210443 | G | American Securities Partners VIII, L.P.; LSF9 Cypress LP; American Securities Partners VIII, L.P.
20210446 | G | Green Equity Investors Side VIII, L.P.; Eclipse Midco, Inc.; Green Equity Investors Side VIII, L.P.
20210447 | G | Waud Capital Partners QP V, L.P.; Elizabeth Dyer; Waud Capital Partners QP V, L.P.
20210459 | G | Warburg Pincus Global Growth, L.P.; Quantum Holdco, Inc.; Warburg Pincus Global Growth, L.P.
20210470 | G | Oaktree Specialty Lending Corporation; Oaktree Strategic Income Corporation; Oaktree Specialty Lending Corporation.
12/08/2020
20210561 | G | The Home Depot, Inc.; HD Supply Holdings, Inc.; The Home Depot, Inc.
12/10/2020
20210591 | G | James Richardson & Sons, Limited; 10030602 Manitoba Ltd.; James Richardson & Sons, Limited.
20210592 | G | James Richardson & Sons, Limited; Janpher Investments Inc.; James Richardson & Sons, Limited.
12/15/2020
20210398 | G | SoftBank Group Corp; Cybereason Inc; SoftBank Group Corp.
20210419 | G | Starboard Value and Opportunity Fund Ltd.; Commvault Systems, Inc.; Starboard Value and Opportunity Fund Ltd.
20210427 | G | Mitsubishi UFJ Lease & Finance Company Limited; Hitachi Capital Corporation; Mitsubishi UFJ Lease & Finance Company Limited.
20210429 | G | A.Y. McDonald Industries, Inc.; Val-Matic Valve and Manufacturing Corporation; A.Y. McDonald Industries, Inc.
20210449 | G | Dry Creek Corporation; Constellation Brands, Inc.; Dry Creek Corporation.
20210451 | G | Quad-C Partners IX, LP.; Richard P. Albert; Quad-C Partners IX, LP.
20210473 | G | Daimler AG; Via Transportation, Inc.; Daimler AG.
20210479 | G | Gryphon Partners VI, L.P.; Proctoru, Inc.; Gryphon Partners VI, L.P.
20210483 | G | Park River Holdings, L.P.; The Resolute Fund III, L.P.; Park River Holdings, L.P.
20210486 | G | Gerald W. Schwartz; Sandeep D. Alva; Gerald W. Schwartz.
20210488 | G | argenx SE; Bayer AG; argenx SE
20210489 | G | Innovex Downhole Solutions, Inc.; Rubicon Oilfield International Holdings, L.P.; Innovex Downhole Solutions, Inc.
20210490 | G | Rubicon Oilfield International Holdings, L.P.; Innovex Downhole Solutions, Inc.; Rubicon Oilfield International Holdings, L.P.
20210492 | G | Clearlake Capital Partners VI, L.P.; Sempervirens Partners II, LLC; Clearlake Capital Partners VI, L.P.
20210494 | G | DLTD Holdings LLC; Afilias, Inc.; DLTD Holdings LLC.
20210503 | G | Dental Intelligence Holdings LP; Dental Intelligence, Inc.; Dental Intelligence Holdings LP.
20210506 | G | Carlyle Europe Partners V, S.C.Sp; Siemens Aktiengesellschaft; Carlyle Europe Partners V, S.C.Sp.
20210507 | G | Clearlake Capital Partners VI, L.P.; Letterone Investment Holdings S.A; Clearlake Capital Partners VI, L.P.
20210509 | G | Naspers Limited; Churchill Capital Corp II; Naspers Limited.
20210512 | G | The Long E. Trust; Centre Lane Partners IV, L.P.; The Long E. Trust.
12/16/2020
20210445 | G | Merck & Co., Inc.; OncoImmune, Inc.; Merck & Co., Inc.
20210465 | G | CoStar Group, Inc.; Homesnap, Inc.; CoStar Group, Inc.
20210484 | G | Rodger May; Maruha Nichiro Corporation; Rodger May.
20210496 | G | Majesta Minerals, Inc.; Alternative Medical Enterprises, LLC; Majesta Minerals, Inc.
20210497 | G | Majesta Minerals, Inc.; POR Holdings, LLC; Majesta Minerals, Inc.
20210513 | G | Trilantic Capital Partners VI (North America) L.P; Orva Holdings LLC; Trilantic Capital Partners VI (North America) L.P.
20210514 | G | NGV Parent Holdings, Inc.; Frontier Fund V-A, L.P; NGV Parent Holdings, Inc.
20210517 | G | PPC Fund II LP 1; V Global Holdings LLC; PPC Fund II LP 1.
20210518 | G | Capital Dynamics Clean Energy Infrastructure Fund X-C (Delaw; Apollo Infra Equity Feeder Fund (TEUP), L.P.; Capital Dynamics Clean Energy Infrastructure Fund X-C (Delaw.
20210519 | G | Roger S. Penske; Power Pool, Inc.; Roger S. Penske.
20210521 | G | Frazier Healthcare Growth Buyout Fund IX, L.P; CSF THL Investor, LLC; Frazier Healthcare Growth Buyout Fund IX, L.P.
20210522 | G | KAWP Holdings, L.P; AWP Group Holdings, Inc.; KAWP Holdings, L.P.
20210524 | G | Deutsche Borse AG; GC Lighthouse Holdings, Inc; Deutsche Borse AG.
20210526 | G | Craveability Parent LLC; Zachary W. McLeroy; Craveability Parent LLC.
20210527 | G | Craveability Parent LLC; Tony D. Townley; Craveability Parent LLC.
20210529 | G | TowerBrook Investors IV (Onshore), L.P.; R1 RCM Inc.; TowerBrook Investors IV (Onshore), L.P.
20210537 | G | BMC Stock Holdings, Inc.; TWP Enterprises, Inc. ; BMC Stock Holdings, Inc.
20210538 | G | International Business Machines Corporation; Instana, Inc; International Business Machines Corporation.
20210539 | G | TCV X, L.P; Strava, Inc; TCV X, L.P.
20210540 | G | GS TruckLite Holdings, LLC; Berwind Holding Corp.; GS TruckLite Holdings, LLC.
20210544 | G | Republic Services, Inc; Gallegos Sanitation, Inc.; Republic Services, Inc.
12/17/2020
20210657 | G | First Reserve Fund XIV, L.P.; The Goldfield Corporation; First Reserve Fund XIV, L.P.
12/18/2020
20210225 | G | Seidler Equity Partners VI, L.P.; Fairfax Financial Holdings Limited; Seidler Equity Partners VI, L.P.
20210226 | G | Seidler Equity Partners VI, L.P.; Desmarais Family Residuary Trust; Seidler Equity Partners VI, L.P.
20210424 | G | Elliott Associates, L.P.; Evergy, Inc.; Elliott Associates, L.P.
20210425 | G | Elliott International Limited; Evergy, Inc.; Elliott International Limited.
20210495 | G | HelloFresh SE; Factor75, Inc.; HelloFresh SE.
20210546 | G | L Catterton IX, L.P.; Function Inc; L Catterton IX, L.P.
20210549 | G | AEA Investors SBF IV LP; Jerel Verner; AEA Investors SBF IV LP.
20210550 | G | Odyssey Investment Partners Fund VI, L.P.; Audax Private Equity Fund V-A, L.P; Odyssey Investment Partners Fund VI, L.P.
20210551 | G | BC Partners XI GE—2 LP; Lindsay Goldberg IV L.P; BC Partners XI GE—2 LP.
20210552 | G | TA/WEG Parent, LLC; Diversified Services of Wisconsin, Inc.; TA/WEG Parent, LLC.
20210553 | G | 9428-4502 Quebec Inc.; Dorel Industries Inc.; 9428-4502 Quebec Inc.
20210558 | G | CEC Entertainment Holdings, LLC; CEC Entertainment, Inc; CEC Entertainment Holdings, LLC.
20210559 | G | Unilever N.V.; SmartyPants, Inc.; Unilever N.V.
20210560 | G | Berkshire Fund IX, L.P.; NCS Investment Holdings LP; Berkshire Fund IX, L.P.
20210563 | G | West Fraser Timber Co. Ltd.; Norbord Inc; West Fraser Timber Co. Ltd.
20210567 | G | Thoma Bravo Fund XIII-A, L.P.; New Harbor Capital Fund, LP; Thoma Bravo Fund XIII-A, L.P.
20210568 | G | Thoma Bravo Fund XIII-A, L.P.; Flexera Holdings LP; Thoma Bravo Fund XIII-A, L.P.
20210577 | G | SoftBank Group Corp; Flock Freight, Inc.; SoftBank Group Corp.
20210578 | G | Global Atlantic Financial Group Limited; CAI International, Inc; Global Atlantic Financial Group Limited.
20210580 | G | Centerbridge Capital Partners III, L.P.; Glass Technology Concepts, LLC; Centerbridge Capital Partners III, L.P.
20210584 | G | MidOcean Partners V, L.P.; Lynx Franchising Holdings, Inc.; MidOcean Partners V, L.P.
20210586 | G | Odyssey Investment Partners Fund VI, LP; Applied Technical Services, Inc; Odyssey Investment Partners Fund VI, LP.
20210588 | G | Longview Acquisition Corp; Butterfly Network, Inc.; Longview Acquisition Corp.
20210590 | G | Amy Adams Strunk; KSA Industries, Inc; Amy Adams Strunk.
20210593 | G | PEP VIII Intermediate 7 L.P; McCarthy Capital Fund VI, L.P.; PEP VIII Intermediate 7 L.P.
20210594 | G | George W. LeMaitre; LeMaitre Vascular, Inc.; George W. LeMaitre.
20210595 | G | Golden Gate Capital Opportunity Fund, L.P.; TWAS Topco, L.P.; Golden Gate Capital Opportunity Fund, L.P.
20210596 | G | Legrand S.A.; AMCO Optics AIV, L.P.; Legrand S.A.
20210598 | G | Beth Trice; Tidal Group LLC; Beth Trice
20210601 | G | Beth Trice; Scott Blackstock; Beth Trice
20210603 | G | PPG Industries, Inc.; Olympus Growth Fund VI, L.P.; PPG Industries, Inc.
20210605 | G | Vector Capital V, L.P.; Mood Media LLC; Vector Capital V, L.P.
20210613 | G | NovaQuest Private Equity Fund I, L.P.; CoreRX, Inc.; NovaQuest Private Equity Fund I, L.P.
20210616 | G | FedEx Corporation; ShopRunner, Inc.; FedEx Corporation.
20210672 | G | Athene Holding Ltd.; Hertz Global Holdings, Inc.; Athene Holding Ltd.
12/21/2020
20210618 | G | Swift Holdco Limited; LCP VIII (AIV I), L.P.; Swift Holdco Limited.
20210622 | G | Triton Fund IV L.P.; Anthony J. Young; Triton Fund IV L.P.
20210627 | G | REP SEKO III, L.P.; Greenbriar Equity Fund III, L.P.; REP SEKO III, L.P.
20210632 | G | Southern Towing Midco, LLC; Devall Maritime Holding Company, LLC; Southern Towing Midco, LLC.
20210635 | G | Selig S LLC; Karlis Vizulis; Selig S LLC.
20210637 | G | JFL, LLC; Craig H. Solomon; JFL, LLC.
20210638 | G | JFL, LLC; Jeffrey B. Citrin; JFL, LLC.
20210640 | G | RB CNS AIV B, LP; Charles R. Bushong; RB CNS AIV B, LP.
20210645 | G | Rochester Regional Health; St. Lawrence Health System, Inc.; Rochester Regional Health.
20210646 | G | West Street Capital Partners VII, L.P.; White Ops, Inc.; West Street Capital Partners VII, L.P.
20210647 | G | Roth CH Acquisition I Parent Corp.; PureCycle Technologies LLC; Roth CH Acquisition I Parent Corp.
20210649 | G | Altaris Health Partners Ill LP.; Minnetronix Medical, Inc; Altaris Health Partners Ill LP.
20210650 | G | AdaptHealth Corp.; AeroCare Holdings, Inc.; AdaptHealth Corp.
20210654 | G | SoftBank Vision Fund L.P.; Katerra Inc.; SoftBank Vision Fund L.P.
20210660 | G | Bally's Corporation; David Wang; Bally's Corporation.
20210661 | G | Energy Spectrum Partners VIII LP; EnCap Energy Capital Fund VIII, LP.; Energy Spectrum Partners VIII LP.
20210663 | G | CIIG Merger Corp.; Kinetik Trust; CIIG Merger Corp.
20210668 | G | Kimmeridge Energy Fund V AIV, LP; Extraction Oil & Gas, Inc.; Kimmeridge Energy Fund V AIV, LP..
20210669 | G | KLC Fund I LP; Edward G. Mitzen; KLC Fund I LP.
20210670 | G | Kingswood Capital Opportunities Fund I, L.P.; Bed Bath & Beyond Inc.; Kingswood Capital Opportunities Fund I, L.P.
20210676 | G | salesforce.com, inc.; Mr. David Joubran; salesforce.com, inc.
20210678 | G | General Atlantic Partners (Bermuda) IV, L.P.; Riskified Ltd.; General Atlantic Partners (Bermuda) IV, L.P.
12/23/2020
20210597 | G | Koninklijke Ahold Delhaize N.V.; RFD I, LLC; Koninklijke Ahold Delhaize N.V.
20210602 | G | Trust 463; Southeastern Paper Group, Inc.; Trust 463.
20210674 | G | General Atlantic Partners 100, L.P.; Quizlet, Inc.; General Atlantic Partners 100, L.P.
20210675 | G | Mithril LP; Palantir Technologies Inc.; Mithril LP.
20210679 | G | UVEX Winter Holding GmbH & Co. KG; Performance Fabrics, Inc.; UVEX Winter Holding GmbH & Co. KG.
20210681 | G | TPG Growth III (A), L.P.; Personalized Beauty Discovery, Inc.; TPG Growth III (A), L.P.
20210682 | G | BlackRock, Inc.; Golden Gate Capital Opportunity Fund, L.P.; BlackRock, Inc.
20210683 | G | Apex Technology Acquisition Corp.; AvePoint, Inc.; Apex Technology Acquisition Corp.
20210684 | G | Littlejohn Fund VI, L.P.; Ned Sherwood; Littlejohn Fund VI, L.P.
20210685 | G | Frontline Technologies Parent, LLC; Riverwood Capital Partners II L.P.; Frontline Technologies Parent, LLC.
20210686 | G | Verizon Communications Inc.; Tristar License Group, LLC; Verizon Communications Inc.
20210688 | G | GIP III Zephyr Acquisition Partners, L.P.; AC Solar Holdings LLC; GIP III Zephyr Acquisition Partners, L.P.
20210714 | G | Cards Parent LP; Collectors Universe, Inc.; Cards Parent LP.
12/28/2020
20210205 | G | Caesars Entertainment, Inc.; William Hill PLC; Caesars Entertainment, Inc.
20210689 | G | Biogen Inc.; Sage Therapeutics, Inc; Biogen Inc.
20210690 | G | Thoma Bravo Fund XIII-A, L.P.; Venafi, Inc; Thoma Bravo Fund XIII-A, L.P.
20210691 | G | Nasdaq, Inc.; Verafin Holdings, Inc.; Nasdaq. Inc.
12/31/2020
20210651 | G | Stephen Griggs; AdaptHealth Corp.; Stephen Griggs.
20210652 | G | SkyKnight Aero Holdings, LLC; AdaptHealth Corp.; SkyKnight Aero Holdings, LLC.
20210653 | G | Peloton Equity AeroCare SPV I, L.P.; AdaptHealth Corp.; Peloton Equity AeroCare SPV I, L.P.

FOR FURTHER INFORMATION CONTACT: Theresa Kingsberry (202-326-3100), Program Support Specialist, Federal Trade Commission Premerger Notification Office, Bureau of Competition, Room CC-5301, Washington, DC 20024.

By direction of the Commission.
April J. Tabor,
Secretary.

[FR Doc. 2021-03183 Filed 2-17-21; 8:45 am]

BILLING CODE P